DEPARTMENT OF COMMERCE

National Oceanic and Atmospheric Administration

Notice of Initiation of Joint Review of Management Plans/Regulations for the Cordell Bank, Gulf of the Farallones, and Monterey Bay National Marine Sanctuaries; Intent To Prepare Draft Environmental Impact Statements and Management Plans; Scoping Meetings

AGENCY: Office of Ocean and Coastal Resource Management (OCRM), National Ocean Service (NOS), National Oceanic and Atmospheric Administration, Department of Commerce (DOC).

ACTION: Initiation of joint review of management plans/regulations; intent to prepare environmental impact statements; scoping meetings.

SUMMARY: Cordell Bank National Marine Sanctuary (CBNMS) was designated in 1989 and encompasses 526 square miles of open ocean off Point Reyes, California. Cordell Bank is a submerged island that reaches within 120 feet of the ocean surface. The upwelling of nutrient rich ocean waters and the bank's topography create one of the most biologically productive areas in North America. The present management plan was completed in 1989.

Gulf of the Farallones National Marine Sanctuary (GFNMS) is located along the California coast west of the San Francisco Bay area. It was designated in 1981 and encompasses 1,255 square miles. The Gulf of the Farallones is rich in marine resources, including spawning grounds and nursery areas for commercially valuable species, at least 36 species of marine mammals, and 15 species of breeding seabirds. The present management plan was completed in 1987.

Monterey Bay National Marine Sanctuary (MBNMS) stretches along 276 miles of the central California coast and encompasses 5,328 square miles of coastal and ocean waters. It was designated in 1992 and contains many diverse biological communities, including sandy bottom and rocky outcrop habitats, the nation's largest expanse of kelp forests, one of the deepest underwater canyons in North America, and a vast open ocean habitat. The present management plan was completed in 1992.

The National Marine Sanctuary Program (NMSP) is jointly reviewing the management plans for all three sanctuaries. These sanctuaries are located adjacent to one another, managed by the same program, and share many of the same resources and issues. In addition, all three sites share many overlapping interest and user groups. It is also more cost-effective for the program to review the three sites jointly rather than conducting three independent reviews.

In accordance with section 304(e) of the National Marine Sanctuaries Act, as amended, (NMSA) (16 U.S.C. 1431 et seq.), the Marine Sanctuaries Division (MSD) of the National Oceanic and Atmospheric Administration (NOAA) is initiating a review of the management plans, to evaluate substantive progress toward implementing the goals for the Sanctuaries, and to make revisions to the plans and regulations as necessary to fulfill the purposes and policies of the NMSA.

The proposed revised management plans will likely involve changes to existing policies and regulations of the Sanctuary, to address contemporary issues and challenges, and to better protect and manage the Sanctuaries resources and qualities. The review process is composed of four major stages: information collection and characterization; preparation and release of a draft management plan/environmental impact statement, and any proposed amendments to the regulations; public review and comment; preparation and release of a final management plan/environmental impact statement, and any final amendments to the regulations. NOAA anticipates completion of the revised management plans and concomitant documents will require approximately eighteen to twenty-four months.

NOAA will conduct public scoping meetings to gather information and other comments from individuals, organizations, and government agencies on the scope, types and significance of issues related to the sanctuaries management plans and regulations. The scoping meetings are scheduled starting on November 28, and are detailed below.

DATES: Written comments should be received on or before January 31, 2002.

Scoping meetings will be held at:

(1) Wednesday, November 28, 2001, 1 P.M. and 6:30 P.M. in Santa Cruz*, CA.

(2) Thursday, November 29, 2001, 1 P.M. and 6:30 P.M. in Monterey*, CA.

(3) Saturday, December 1, 2001, 1 PM in Salinas*, CA.

(4) Monday, December 3, 2001, 6:30 P.M. in San Luis Obispo, CA.

(5) Tuesday, December 4, 2001, 6:30 P.M. in Cambria, CA.

(6) Wednesday, December 5, 2001, 6:30 P.M. in Big Sur, CA.

(7) Thursday, December 6, 2001, 6:30 P.M. in Half Moon Bay, CA.

(8) Friday, December 7, 2001, 8:30 A.M. in Half Moon Bay, CA.

(9) Tuesday, December 11, 2001, 10 A.M.—2 P.M. in Sacramento, CA.

(10) Friday, December 14, 2001, 10 A.M.—12:30 P.M. in Washington, DC.

(11) Monday, January 7, 2002, 6:30 P.M. in Gualala, CA.

(12) Tuesday, January 8, 2002, 6:30 P.M. in Bodega Bay, CA.

(13) Wednesday, January 9, 2002, 7:30 P.M. in Pt. Reyes Station, CA.

(14) Thursday, January 10, 2002, 6:30 P.M. in San Rafael, CA.

(15) Monday, January 14, 2002, 6:30 P.M. in Rohnert Park, CA.

(16) Tuesday, January 15, 2002, 6:30 P.M. in San Francisco, CA.

(17) Wednesday, January 16, 2002, 6:30 P.M. in Pacifica, CA.

(18) Thursday, January 17, 2002, 6:30 P.M. in San Jose*, CA.

* Spanish Translation Available

ADDRESSES: Written comments may be sent to either of the following addresses:

Gulf of the Farallones and Cordell Bank National Marine Sanctuaries, Anne Walton, Management Plan Coordinator, Fort Mason, Building 201, San Francisco, CA 94123, (415) 561-6622 phone, (415) 561-6616 fax, Anne.Walton@noaa.gov.

Monterey Bay National Marine Sanctuary, Sean Morton, Management Plan Coordinator, 299 Foam Street, Monterey, CA 93940, (831) 647-4217 phone, (831) 647-4250 fax, Sean.Morton@noaa.gov.

Comments will be available for public review at the same addresses. Comments may also be submitted on the Joint Management Plan Website at http://sanctuaries.nos.noaa.gov/jointplan or via e-mail at jointplancomments@noaa.gov.

Scoping meetings will be held at:

(1) Santa Cruz Civic Center, 307 Church Street, Santa Cruz, CA, 95060.

(2) Monterey Conference Center, One Portola Plaza, Monterey, CA, 93940.

(3) Hartnell College, 156 Homestead Avenue, Salinas, CA, 93901.

(4) San Luis Obispo Public Library, 995 Palm Street, San Luis Obispo, CA, 93401.

(5) Cambria Grammer School, 1350 Main Street, Cambria, CA, 93428.

(6) Big Sur Lodge at Pfeiffer Big Sur State Park, 47225 Pacific Coast Highway One, Big Sur, CA, 93920.

(7) Ted Adcock Community Center, 535 Kelly Avenue, Half Moon Bay, CA, 94019.

(8) Douglas Beach House, 311 Mirada Road, Half Moon Bay, CA, 94019.

(9) Sheraton Grand Sacramento, Compagno Room, 1230 J Street, Sacramento, CA, 95814.

(10) U.S. Department of Commerce, Herbert C. Hoover Bldg., Rooms 6800 & 6802, 14th Street and Constitution Ave. NW, Washington, DC, 20230.

(11) Gualala Arts Center, 46501 Old State Highway, Gualala, CA, 95445.

(12) Bodega Marine Laboratory, 2099 Westside Road, Bodega Bay, CA, 94923.

(13) Point Reyes Dance Palace, Main Hall, 5th and B Street, Pt. Reyes Station, CA, 94956.

(14) Marin Center, Hospitality Room and Six Meeting Rooms, Avenue of the Flags, North San Pedro Road, San Rafael, CA, 94903.

(15) Doubletree Hotel, Rohnert Park, Salons 3 & 4, One Doubletree Drive, Rohnert Park, CA, 94928.

(16) Marina Middle School, 3500 Fillmore Street, San Francisco, CA, 94123.

(17) Oceana High School, 401 Paloma Avenue, Pacifica, CA, 94044.

(18) Santa Clara County Office of Education, 1290 Ridder Park Drive, San Jose, CA, 95131.

FOR FURTHER INFORMATION CONTACT: Gulf of the Farallones and Cordell Bank National Marine Sanctuaries, Anne Walton, Management Plan Coordinator, Fort Mason, Building 201, San Francisco, CA 94123, (415) 561-6622, Anne.Walton@noaa.gov.

-or-

Monterey Bay National Marine Sanctuary, Sean Morton, Management Plan Coordinator, 299 Foam Street, Monterey, CA 93940, (831) 647-4217, Sean.Morton@noaa.gov.

Information about the Joint Management Plan Review can also be found on the Internet at: http://sanctuaries.nos.noaa.gov/jointplan.

(Federal Domestic Assistance Catalog Number 11.429 Marine Sanctuary Program)

Authority: 16 U.S.C. section 1431 et seq.

Jamison S. Hawkins,
Deputy Assistant Administrator for Ocean Services and Coastal Zone Management.

[FR Doc. 01-28054 Filed 11-7-01; 8:45 am]

BILLING CODE 3510-08-P